DEPARTMENT OF THE INTERIOR

Bureau of Land Management

[LLORP0000.16100000.DR0000 LXSS053H0000 HAG14-0129]

Notice of Availability of Record of Decision for the John Day Basin Resource Management Plan Final Environmental Impact Statement

AGENCY: Bureau of Land Management, Interior.

ACTION: Notice of availability.

SUMMARY: The Bureau of Land Management (BLM) announces the availability of the Record of Decision (ROD) for the Approved Resource Management Plan (RMP) for the John Day Basin planning area located in northern central Oregon. The Oregon/Washington State Director signed the ROD on April 28, 2015, which constitutes the final decision of the BLM and makes the Approved RMP effective immediately.

ADDRESSES: Copies of the ROD/Approved RMP are available upon request from the Central Oregon Field Manager, Prineville District Office, Bureau of Land Management, 3050 NE Third Street, Prineville, OR 97754, or via the internet at http://www.blm.gov/or/districts/prineville/plans/johndayrmp/jdbdocuments.php. Copies of the ROD/Approved RMP are available for public inspection at the Prineville District Office.

FOR FURTHER INFORMATION CONTACT: Teal Purrington, Planning and Environmental Coordinator; telephone, 541-416-6700; address, Prineville District Office, Bureau of Land Management, 3050 NE Third Street, Prineville, OR 97754; email, tpurring@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Interaction with the public regarding this RMP began in early 2006 and included dozens of public meetings and workshops. The BLM worked with cooperators from six Federal agencies, including the National Marine Fisheries Service and the U.S. Fish and Wildlife Service; three state agencies; and eight county governments. The BLM also consulted, on a government-to-government basis, with three federally recognized tribes with interests in the planning area. The RMP provides management direction for 456,600 acres of public land. The Approved RMP describes the actions that will meet desired resource conditions for soil, vegetation, water quality, aquatic habitat, and wildlife habitat; protects cultural resources, visual resources, Wild and Scenic River values, Wilderness areas, and Areas of Critical Environmental Concern; and provides opportunities for recreation, transportation, livestock grazing, rights-of-way, and energy and mineral development. The preferred alternative published October 2008 in the Draft RMP/Environmental Impact Statement (EIS) was carried forward as the Proposed RMP in the Final EIS with minor modifications. The Proposed RMP/EIS was published in April 2012, and the BLM received three protest letters. After careful consideration of all points raised in those protests, the BLM Director concluded that the BLM followed all applicable laws, regulations, policies, and pertinent resource considerations in developing the proposed plan. Responses were sent from the BLM Director to all protesting parties to address their concerns. The BLM's protest summary report is available on the Prineville District Web page at: http://www.blm.gov/or/districts/prineville/plans/johndayrmp/jdbsupportdocs.

The Governor of Oregon was provided a formal, 60-day review period to determine if the Proposed RMP/EIS is consistent with existing state or local plans, programs, or policies. No inconsistencies were identified. In preparing the Approved RMP, the BLM applied the seasonal wildlife closures considered in Alternatives 4 and 5 to the 3,970-acre area identified as an Open Off-highway Vehicle (OHV) designation in the Rudio Mountain area. As a result, the OHV designation was also changed to Limited. All other changes were minor editorial modifications.

There are several implementation decisions in the Approved RMP which are appealable under 43 CFR part 4: (a) Limits on decibels, hours of operation, and class of OHV at Little Canyon Mountain; (b) interim management plan for Spring Basin Wilderness; (c) interim management direction for the portion of the North Fork John Day River determined to be suitable for designation as a Wild and Scenic River; (d) management plan for the existing wild and scenic river designations on the John Day River; (e) seasonal area and route closures; and (f) decisions identifying routes of travel for motorized vehicles. Any party adversely affected may appeal within 30 days of publication of this Notice of Availability. The appeal should state the specific decision(s) being appealed. The appeal must be filed with the Central Oregon Field Manager at the above listed address. Please consult the appropriate regulations (43 CFR part 4, subpart E) for further appeal requirements.

Authority: 40 CFR 1506.6.

Jerome E. Perez,
State Director, Oregon/Washington.

[FR Doc. 2015-14485 Filed 6-11-15; 8:45 am]

BILLING CODE 4310-33-P